DEPARTMENT OF ENERGY

Federal Energy Regulatory Commission

[Project No. 14867-003]

Scott's Mill Hydro, LLC; Notice Soliciting Scoping Comments

Take notice that the following hydroelectric application has been filed with the Commission and is available for public inspection.

a. Type of Application: Original Major License.

b. Project No.: 14867-003.

c. Date filed: March 21, 2022.

d. Applicant: Scott's Mill Hydro, LLC.

e. Name of Project: Scott's Mill Hydroelectric Project.

f. Location: On the James River, in the City of Lynchburg and Bedford and Amherst Counties, Virginia.

g. Filed Pursuant to: Federal Power Act 16 U.S.C. 791(a)-825(r).

h. Applicant Contact: Mr. Mark Fendig, Luminaire Technologies, Inc., 9932 Wilson Highway, Mouth-of-Wilson, VA 24363; phone: (540) 320-6762.

i. FERC Contact: Jody Callihan at (202) 502-8278, or jody.callihan@ferc.gov.

j. Deadline for filing scoping comments: March 28, 2025.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Scott's Mill Hydroelectric Project (P-14867-003).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis at this time.

l. The proposed Scott's Mill Hydroelectric Project would consist of: (1) a masonry dam containing two spillways separated by a 25-foot-wide stone pier, with one 735-foot-long, 15-foot-high (main) spillway with a crest elevation of 514.4 feet North American Vertical Datum of 1988 (NAVD88) that is topped with 2-foot-high flashboards designed to fail at an elevation of 520.4 feet NAVD88 and the other a 140-foot-long arch-section spillway lowered to an elevation of 508.0 feet NAVD88 (existing crest elevation 514.8 feet NAVD88); (2) an impoundment with a surface area of 303.4 acres at a normal pool elevation of 516.4 feet NAVD88; (3) a new modular powerhouse installed immediately downstream of the arch-section spillway containing: (a) nine turbine-generator units (Littoral Power Systems' Reakt 52 turbines) with a total installed capacity of 4.5 megawatts and (b) two crest gates, each 8 feet wide and 5.27 feet high, at the western (downstream) end of the powerhouse; (4) a new 1,200-foot-long underground/overhead transmission line that would connect to an existing Appalachian Power Company substation; and (5) appurtenant facilities.

Scott's Mill also proposes to construct: (1) two eel ramps (one on each side of the James River), (2) a fishing pier (downstream of the eastern end of the dam), (3) a portage trail around the eastern side of the dam, and (4) a boat ramp and parking area on the eastern bank of the impoundment, near the entrance of Harris Creek.

To increase flow to the powerhouse, Scott's Mill proposes to remove the top 6.8 feet of the existing arch-section spillway of the dam and add 2-foot-high flashboards to the main spillway. Scott's Mill proposes to operate the project in a run-of-river mode, such that the impoundment would be maintained, at all times, at elevations at least 1 inch above the top of the flashboards, resulting in continuous spill flows (over the flashboards of the main spillway) of between 30 cubic feet per second (cfs) and 40 cfs. Scott's Mill also notes that, although it proposes to install the powerhouse at an angle, some excavation of a downstream riffle area and island (Anthony Island) may be necessary to achieve its desired downstream flow balance, with half of the powerhouse outflow being delivered to each of the two channels immediately downstream of the project dam.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued February 26, 2025.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: February 26, 2025.
Debbie-Anne A. Reese,
Secretary.

[FR Doc. 2025-03498 Filed 3-5-25; 8:45 am]

BILLING CODE 6717-01-P